DEPARTMENT OF THE INTERIOR

Bureau of Land Management

[212.LLAZP02000.L14400000.EQ0000; AZA-38146]

Notice of Realty Action: Recreation and Public Purposes Act Classification, Pinal County, AZ

AGENCY: Bureau of Land Management, Interior.

ACTION: Notice of realty action.

SUMMARY: Pinal County, AZ, filed an application with the Bureau of Land Management (BLM) to develop three parcels of BLM-managed land as part of a regional park that will help meet expanding recreational needs in the area near Maricopa, AZ. The BLM, Lower Sonoran Field Office, examined the three parcels consisting of approximately 497 acres of public land and determined that the parcels are suitable for classification under the provisions of the Recreation and Public Purposes (R&PP) Act, as amended. The R&PP Act allows local governments to lease, develop, and subsequently acquire public lands for recreation and other public purposes if compliant with local government and BLM land use planning. The R&PP project is consistent with the Federal Land Policy and Management Act, as amended, and associated BLM regulations and policies.

DATES: Interested parties may submit written comments regarding the classification and decision to issue a lease on or before May 16, 2022. In the absence of adverse comments, the decision to lease the land will become effective no less than 60 days after the date of publication in the Federal Register.

ADDRESSES: Mail written comments to the BLM Lower Sonoran Field Office (LSFO), Attn: Ryan Randell, Realty Specialist, 21605 North 7th Avenue, Phoenix, Arizona 85027 or fax to (623) 580-5580. Additional information, including the plan of development and environmental assessment, is available for public review at the LSFO, or online at: https://eplanning.blm.gov/eplanning-ui/project/2003296/510.

FOR FURTHER INFORMATION CONTACT: Ryan Randell, Realty Specialist, telephone: (623) 580-5533, email: rrandell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The three parcels are located within the Palo Verde Mountains, west of the City of Maricopa and south of Arizona State Route 238, and are legally described as:

Gila and Salt River Meridian, Arizona

T. 4 S. R. 2 E.,

Sec. 20, lot 4;

Sec. 29, N½NE¼NW¼;

Sec. 33, lots 1 thru 4;

T. 5 S., R. 2 E.,

Sec. 4, lots 3 and 4;

Sec. 4, E½SW¼NW¼, SE¼NW¼;

Sec. 7, SW¼NE¼NE¼, SE¼NW¼NE¼, E½SW¼NE¼, W½SE¼NE¼, SE¼SE¼NE¼, and SE¼, Excepting therefrom those portions lying within ½ mile of the center line of the Tucson Electric Power right-of-way AZA-7274.

The areas described aggregate 497 acres, more or less.

Plans for the R&PP Act project consist of new trailheads and staging areas, restrooms, shaded structures, host campsites, a 39-space campground with facilities, an archery range, and a day use off-highway vehicle area with parking. The project is consistent with the objectives of the BLM Lower Sonoran Resource Management Plan dated September 19, 2012, and was analyzed consistent with the National Environmental Policy Act (NEPA). Additional information, including the plan of development and environmental assessment, is available for public review at the LSFO (see ADDRESSES section) or online at: https://eplanning.blm.gov/eplanning-ui/project/2003296/510.

The lease document, if issued, will be subject to the provisions of the R&PP Act and the following terms and conditions:

1. Subject to valid existing rights.

2. An appropriate indemnification clause protecting the United States from claims arising out of the lessee's use, occupancy, or occupations on the leased lands.

The lands as described above have been found suitable for leasing under the R&PP Act. Upon publication of this notice in the Federal Register, the lands will be segregated from all other forms of appropriation under the public land laws, including the general mining laws. The segregation will remain until an Opening Order is published in the Federal Register or the application is withdrawn.

Interested parties may submit comments involving the suitability of the land for development of a regional park in Pinal County and whether the land is physically suited for the proposal, whether the use will maximize the future use or uses of the land, whether the use is consistent with local planning and zoning, or whether the proposed use is consistent with State and Federal programs. Comments may also include concerns over the specific use proposed in the application and whether the BLM followed proper administrative procedures in reaching the decision to lease the lands under the R&PP Act. Only written comments submitted to the BLM Lower Sonoran Field Office will be considered properly filed.

Before including your address, phone number, email address, or other personal identifying information in your comment, you should be aware that your entire comment—including your personal identifying information—may be made publicly available at any time. While you can ask us in your comment to withhold your personal identifying information from public review, we cannot guarantee that we will be able to do so. Any adverse comments will be considered protests and will be reviewed by the BLM Arizona State Director, who may sustain, vacate, or modify this realty action.

(Authority: 43 CFR 2741.5)

Edward Kender,
Field Manager, BLM Lower Sonoran Field Office.

[FR Doc. 2022-06653 Filed 3-29-22; 8:45 am]

BILLING CODE 4310-32-P